DEPARTMENT OF COMMERCE

National Oceanic and Atmospheric Administration

[I.D. 081202A]

New Information Indicates Fine-scaled Stock Structure for Harbor Seals in Alaska

AGENCY: National Marine Fisheries Service (NMFS), National Oceanic and Atmospheric Administration (NOAA), Commerce.

ACTION: Notice of information; request for comments; reopening comment period.

SUMMARY: On August 26, 2002, NMFS announced that new information is available that indicates fine-scaled stock structure of harbor seals in Alaska. NMFS invited the public to submit additional information or viewpoints related to harbor seal stock structure in Alaska. In response to a request from the public, NMFS is reopening the comment period for 14 days.

DATES: Comments must be received before close of business on October 22, 2002.

ADDRESSES: Comments should be forwarded to P. Michael Payne, Assistant Regional Administrator for Protected Resources, Alaska Regional Office, NMFS, Juneau, Alaska 99802.

FOR FURTHER INFORMATION CONTACT: Kaja Brix, Alaska Regional Office, NMFS, Juneau, Alaska, (907) 586-7824; or Thomas Eagle, Office of Protected Resources, NMFS, Silver Spring, MD, (301) 713-2322, ext. 105.

SUPPLEMENTARY INFORMATION:

Electronic Access

The original notice of availability and a map of the areas in Alaska where seal groupings appear discrete may be found at www.fakr.noaa.gov/protectedresources.

Background

NMFS issued a notice (67 FR 54792, August 26, 2002) that new information indicates that stock structure of harbor seals in Alaska may be more finely scaled than is currently recognized in marine mammal stock assessment reports compiled pursuant to section 117 of the Marine Mammal Protection Act. NMFS also advised in that notice that it is evaluating harbor seal stock structure through a co-management process with the Alaska Native Harbor Seal Commission. NMFS solicited additional information and viewpoints from the public that it should consider throughout the evaluation of harbor seal stock structure.

The Alaska Department of Fish and Game requested that NMFS extend the comment period for 2 weeks. In response to this request, NMFS is reopening the comment period for 2 weeks.

Dated: October 2, 2002.
Chris Mobley,
Acting Director, Office of Protected Resources,National Marine Fisheries Service.

[FR Doc. 02-25623 Filed 10-7-02; 8:45 am]

BILLING CODE 3510-22-S